DEPARTMENT OF COMMERCE

National Oceanic and Atmospheric Administration

[I.D. 091305B]

Endangered and Threatened Species; Take of Anadromous Fish

AGENCY: National Marine Fisheries Service (NMFS), National Oceanic and Atmospheric Administration (NOAA), Commerce.

ACTION: Receipt of application for a scientific research/enhancement permit (1090) and request for comment.

SUMMARY: Notice is hereby given that NOAA Fisheries has received applications to grant permit to (Permit 1090), Mattole Salmon Group, Petrolia, CA. This permit would affect SONCC coho salmon (Oncorhynchus kisutch), California Coastal (CC) Chinook salmon (O. tshawytscha) and Northern California (NC) steelhead (O. mykiss) This document serves to notify the public of the availability of the permit application for review and comment before a final approval or disapproval is made by NMFS.

DATES: Written comments on the permit application must be received at the appropriate address or fax number (see ADDRESSES) no later than 5 p.m. Daylight Savings Time on October 31, 2005.

ADDRESSES: Written comments on any of these renewal and modification request should be sent to the appropriate office as indicated below. Comments may also be sent via fax to the number indicated for the request. Comments will not be accepted if submitted via e-mail or the internet. The applications and related documents are available for review in the indicated office, by appointment: For Permit 1090: Steve Liebhardt, Protected Species Division, NOAA Fisheries, 1655 Heindon Road, Arcata, CA 95521 (ph: 707-825-5186, fax 707 825-4840)

FOR FURTHER INFORMATION CONTACT: Steve Liebhardt at phone number (707-825-5186), or e-mail: steve.liebhardt@noaa.gov

SUPPLEMENTARY INFORMATION:

Authority

Issuance of permits, as required by the Endangered Species Act of 1973 (16 U.S.C. 1531-1543 (ESA), is based on a finding that such permits/modifications: (1) are applied for in good faith; (2) would not operate to the disadvantage of the listed species which are the subject of the permits; and (3) are consistent with the purposes and policies set forth in section 2 of the ESA. Authority to take listed species is subject to conditions set forth in the permits. Permits are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NOAA Fisheries.

Species Covered in This Notice

This notice is relevant to the following threatened salmonid ESU: Southern Oregon/Northern California Coast (SONCC) coho salmon (Oncorhynchus kisutch), California Coastal (CC) Chinook salmon (O. tshawytscha) and Northern California (NC) steelhead (O. mykiss).

Permit Requests Received

Permit 1090

Mattole Salmon Group (MSG) has requested a Permit 1090 for take of juvenile SONCC coho salmon, CC Chinook salmon, and NC steelhead to monitor and support salmonid populations by using the following techniques: (1) Downstream migrant trapping, 2) downriver rescue and rearing, (3) upriver rescue and rearing, (4) adult trapping, (5) spawner surveys, and (6) direct underwater observations. MSG has requested non-lethal take of 16,250 juvenile SONCC coho salmon, 31,000 juvenile Chinook salmon, 105 adult Chinook salmon, and 76,250 juvenile steelhead. Up to 6,000 wild down-migrant Chinook salmon would be captured in the lower mainstem Mattole at river-mile 3.2 in MSG's 5' rotary-screw traps) for transfer to rearing ponds at MSG's adjacent Mill Creek rearing facility. Permit 1090 will expire August 1, 2010.

Dated: September 23, 2005.
Angela Somma,
Chief, Endangered Species Division, Office of Protected Resources, National Marine Fisheries Service.

[FR Doc. 05-19500 Filed 9-28-05; 8:45 am]

BILLING CODE 3510-22-S